ENVIRONMENTAL PROTECTION AGENCY

40 CFR Part 52

[CA 153-0195b; FRL-6958-2]

Revisions to the California State Implementation Plan, Butte County Air Quality Management District

AGENCY: Environmental Protection Agency (EPA).

ACTION: Proposed rule.

SUMMARY: EPA proposes to approve revisions to the Butte County Air Quality Management District (BCAQMD) State Implementation Plan (SIP) which concern the permitting of stationary sources of air emissions. We are proposing to approve local rules to regulate these emission sources under the Clean Air Act as amended in 1990 (CAA or the Act).

DATES: Comments must be received in writing by June 1, 2001.

ADDRESSES: Comments must be submitted in writing to Gerardo Rios at the Region IX mailing address listed below. Copies of the rules and EPA's evaluation report are available for public inspection at EPA's Region IX office during normal business hours. Copies of the submitted rules are available for inspection at the following locations:

Permits Office (AIR-3), Air Division, Environmental Protection Agency, Region IX, 75 Hawthorne Street, San Francisco, CA 94105.

Environmental Protection Agency, Air Docket (6102), Ariel Rios Building, 1200 Pennsylvania Avenue, N.W., Washington, D.C. 20460.

California Air Resources Board, Stationary Source Division, Rule Evaluation Section, 1001 “I” Street, Sacramento, CA 95814.

Butte County Air Quality Management District, 2525 Dominic Drive, Suite J, Chico, CA 95928.

A courtesy copy of the rules may be available via the Internet at http://www.arb.ca.gov/drdb/drdbltxt.htm. However, these versions of the rules may be different than the versions submitted to EPA for approval. Readers are cautioned to verify that the adoption date of the rule listed is the same as the rule submitted to EPA for approval. The official submittal is only available at the agency addresses listed above.

FOR FURTHER INFORMATION CONTACT: David Wampler, Permits Office, (AIR-3), Air Division, U.S. Environmental Protection Agency, Region IX, 75 Hawthorne Street, San Francisco, CA 94105; (415) 744-1256.

SUPPLEMENTARY INFORMATION: This proposal addresses the following local rules: BCAQMD 403, 422, 424, 1105, 4-3 (recision), 4.5A (recision), 4.5B (recision), 4-6 (recision), 4-6A (recision), 4.9 (recision), and 4-11 (recision). In the Rules and Regulations section of this Federal Register, we are approving action on these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: February 9, 2001.
Laura Yoshii,
Acting Regional Administrator, Region IX.

[FR Doc. 01-10650 Filed 5-1-01; 8:45 am]

BILLING CODE 6560-50-P